DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS (the Secretary) is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 08N146B, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on November 1, 2016, through November 30, 2016. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: December 15, 2016.
James Macrae,
Acting Administrator.

List of Petitions Filed

1. Linda Alvarez, Mankato, Minnesota, Court of Federal Claims No: 16-1438V.

2. Erika Reeder, Philadelphia, Pennsylvania, Court of Federal Claims No: 16-1439V.

3. Shelly Thompson, Wellesley, Massachusetts, Court of Federal Claims No: 16-1440V.

4. Wesley Dumas, Jacksonville, Florida, Court of Federal Claims No: 16-1441V.

5. Donna Huddy, Washington, District of Columbia, Court of Federal Claims No: 16-1442V.

6. Allen M. Horst, Goshen, Indiana, Court of Federal Claims No: 16-1443V.

7. Mary Jane Corn, Southport, North Carolina, Court of Federal Claims No: 16-1445V.

8. Indigo Grant on behalf of Mason Grant, White Plains, New York, Court of Federal Claims No: 16-1446V.

9. Kathleen Scarpato, York, Pennsylvania, Court of Federal Claims No: 16-1448V.

10. Mark Johnson, Dayton, Ohio, Court of Federal Claims No: 16-1449V.

11. Judith Isacoff, Arlington, Virginia, Court of Federal Claims No: 16-1450V.

12. Laurel Powell, Pocatello, Idaho, Court of Federal Claims No: 16-1452V.

13. Guy Irwin, Vienna, Virginia, Court of Federal Claims No: 16-1454V.

14. Patricia Barabas, Linwood, New Jersey, Court of Federal Claims No: 16-1455V.

15. Troy Duval, Greenville, Wisconsin, Court of Federal Claims No: 16-1456V.

16. Denise Goring, Chicago, Illinois, Court of Federal Claims No: 16-1458V.

17. Tommy Calhoun on behalf of Nancy Calhoun, Norwalk, Ohio, Court of Federal Claims No: 16-1459V.

18. Lance Antolick and Alyson Antolick on behalf of L. A., Huntsville, Alabama, Court of Federal Claims No: 16-1460V.

19. Gail Dirksen, Minot, North Dakota, Court of Federal Claims No: 16-1461V.

20. Eliseo Rael, Pittsburgh, Pennsylvania, Court of Federal Claims No: 16-1462V.

21. Abby Dux, Boston, Massachusetts, Court of Federal Claims No: 16-1463V.

22. Gerald Temes, Louisville, Kentucky, Court of Federal Claims No: 16-1465V.

23. Stacy Ginn and Jennifer Ginn on behalf of R. G., Boston, Massachusetts, Court of Federal Claims No: 16-1466V.

24. Lindsay Hiatt, Templeton, California, Court of Federal Claims No: 16-1467V.

25. Susan Ross, White Plains, New York, Court of Federal Claims No: 16-1468V.

26. Mohammed K. Alam and Jannatul Mumtarina on behalf of T. M., New York, New York, Court of Federal Claims No: 16-1469V.

27. Candace Singer, Camp Hill, New York, Court of Federal Claims No: 16-1470V.

28. Staci Pohodich, Dallas, Texas, Court of Federal Claims No: 16-1471V.

29. Robert Wallace, Sandusky, Ohio, Court of Federal Claims No: 16-1472V.

30. Cynthia Cooper, Washington, District of Columbia, Court of Federal Claims No: 16-1476V.

31. Philip Ngo on behalf of Adrianna Ngo, Portland, Oregon, Court of Federal Claims No: 16-1478V.

32. Tamara Chavez on behalf of T. C., Piermont, New York, Court of Federal Claims No: 16-1479V.

33. Erin McLane, Bethlehem, Pennsylvania, Court of Federal Claims No: 16-1480V.

34. Stephanie Foster, Flowood, Mississippi, Court of Federal Claims No: 16-1484V.

35. Doreen Stewart on behalf of The Estate of Marie Cavallaro, Deceased, Cairo, New York, Court of Federal Claims No: 16-1486V.

36. Amanda Holder, Anniston, Alabama, Court of Federal Claims No: 16-1490V.

37. Patricia Walling, Nowata, Oklahoma, Court of Federal Claims No: 16-1493V.

38. Ebonie Weaver on behalf of T. M., Chicago, Illinois, Court of Federal Claims No: 16-1494V.

39. Brian Cassidy, Patchogue, New York, Court of Federal Claims No: 16-1495V.

40. Rachel Koenig, New York, New York, Court of Federal Claims No: 16-1496V.

41. Donna Mae Coneley, Spearfish, South Dakota, Court of Federal Claims No: 16-1497V.

42. Fredric Kerns, Boston, Massachusetts, Court of Federal Claims No: 16-1498V.

43. Patricia A. Spayde, Chesaning, Michigan, Court of Federal Claims No: 16-1499V.

44. Charles E. Sumner, Houston, Texas, Court of Federal Claims No: 16-1500V.

45. Darrell G. Mayo, Suffolk, Virginia, Court of Federal Claims No: 16-1502V.

46. Ginger Smith, Rochester, New York, Court of Federal Claims No: 16-1503V.

47. Anthony D. Maddox, Murfreesboro, Tennessee, Court of Federal Claims No: 16-1504V.

48. Omar M. Villarroel, Rockford, Illinois, Court of Federal Claims No: 16-1505V.

49. James F. Dunn, Pittsburgh, Pennsylvania, Court of Federal Claims No: 16-1506V.

50. Jacquelynn Hernandez, Galveston, Texas, Court of Federal Claims No: 16-1508V.

51. Martha Shackelford, Houston, Texas, Court of Federal Claims No: 16-1509V.

52. Jenna Karakatsanis, Knoxville, Tennessee, Court of Federal Claims No: 16-1511V.

53. Arthur Zerbey, Boston, Massachusetts, Court of Federal Claims No: 16-1514V.

54. Carlos Barrantes-Vargas, Monmouth, New Jersey, Court of Federal Claims No: 16-1515V.

55. Bernadette Skorupska on behalf of N. S., New York, New York, Court of Federal Claims No: 16-1517V.

56. John Prater, Taylor, Michigan, Court of Federal Claims No: 16-1518V.

57. Scott Rodemoyer, North Canton, Ohio, Court of Federal Claims No: 16-1519V.

58. Renee Woods and Ryan Woods on behalf of T. W., Plano, Texas, Court of Federal Claims No: 16-1520V.

59. Jeanne Ivester, Cincinnati, Ohio, Court of Federal Claims No: 16-1522V.

60. Alla Goldman, Roseland, New Jersey, Court of Federal Claims No: 16-1523V.

61. Jamin Rader, Seattle, Washington, Court of Federal Claims No: 16-1524V.

62. Ariadna Nacianceno, Chapel Hill, North Carolina, Court of Federal Claims No: 16-1525V.

63. Janice Creighton, Richmond, California, Court of Federal Claims No: 16-1526V.

64. Rosalinda Vohs, San Antonio, Texas, Court of Federal Claims No: 16-1527V.

65. Glenda Garnsey, Georgetown, Delaware, Court of Federal Claims No: 16-1528V.

66. Joy Gilley, Burleson, Texas, Court of Federal Claims No: 16-1529V.

67. Crystal Adkins, Fredericksburg, Virginia, Court of Federal Claims No: 16-1530V.

68. Sharon Farnsworth, Garnett, Kansas, Court of Federal Claims No: 16-1531V.

69. Margaret R. Marsh, Clemmons, North Carolina, Court of Federal Claims No: 16-1532V.

70. Heather Ryan, Baton Rouge, Louisiana, Court of Federal Claims No: 16-1533V.

71. Christine Rogers, Mansfield, Ohio, Court of Federal Claims No: 16-1534V.

72. Edithe Swensen, Clinton Park, New York, Court of Federal Claims No: 16-1535V.

73. Sheri Rocca, Cleveland, Ohio, Court of Federal Claims No: 16-1537V.

74. Raymond Fowler, Kennebunk, Maine, Court of Federal Claims No: 16-1538V.

75. Alan L. Hayward, Mason City, Iowa, Court of Federal Claims No: 16-1539V.

76. Dena McElerney and Patrick McElerney on behalf of C. M., Lithia, Florida, Court of Federal Claims No: 16-1540V.

77. Tina L. Eskelin, Beverly Hills, California, Court of Federal Claims No: 16-1543V.

78. David Novak, Chardon, Ohio, Court of Federal Claims No: 16-1544V.

79. Deborah B. Brown, Chapel Hill, North Carolina, Court of Federal Claims No: 16-1547V.

80. Kevin Kelly, Lebanon, Pennsylvania, Court of Federal Claims No: 16-1548V.

81. Kristi Marquardt, La Jolla, California, Court of Federal Claims No: 16-1551V.

82. Monica Portee, Columbia, South Carolina, Court of Federal Claims No: 16-1552V.

83. Claudia Cipowski, Munster, Indiana, Court of Federal Claims No: 16-1553V.

84. Lisa Barker, Jacksonville, Florida, Court of Federal Claims No: 16-1554V.

85. Linda Rees, Belton, Missouri, Court of Federal Claims No: 16-1555V.

86. Ashraf Mostafa, Towson, Maryland, Court of Federal Claims No: 16-1558V.

87. Dorothy Felix, Grand Rapids, Michigan, Court of Federal Claims No: 16-1560V.

88. Janice Sloan, Mt. Juliet, Tennessee, Court of Federal Claims No: 16-1561V.

89. Virginia Vahle, Lee, Massachusetts, Court of Federal Claims No: 16-1562V.

90. Valerie W. Alexander, Mankato, Minnesota, Court of Federal Claims No: 16-1563V.

91. Ron W. Flood, Spokane, Washington, Court of Federal Claims No: 16-1564V.

92. Eardeal Miller, Northport, Alabama, Court of Federal Claims No: 16-1566V.

93. Laura Winters, Wellesley Hills, Massachusetts, Court of Federal Claims No: 16-1570V.

94. Joseph J. Pass, Pittsburgh, Pennsylvania, Court of Federal Claims No: 16-1572V.

95. Donald D. Dix, Lincoln, Nebraska, Court of Federal Claims No: 16-1574V.

96. Melissa Howie, Dublin, Ohio, Court of Federal Claims No: 16-1575V.

97. James Abdelnour, Fairhaven, Massachusetts, Court of Federal Claims No: 16-1580V.

98. Della Cantrell, Long Beach, California, Court of Federal Claims No: 16-1581V.

99. Christy Heil, Grove City, Ohio, Court of Federal Claims No: 16-1582V.

100. Betsy Graham, North Attleboro, Massachusetts, Court of Federal Claims No: 16-1583V.

101. Angelina Grujic, Boston, Massachusetts, Court of Federal Claims No: 16-1586V.

102. Michael Johnson, Boston, Massachusetts, Court of Federal Claims No: 16-1587V.

103. William Vanjura, Moberly, Missouri, Court of Federal Claims No: 16-1588V.

104. Claire Dunne, Chicago, Illinois, Court of Federal Claims No: 16-1590V.

105. Marc Howard, Fairhope, Alabama, Court of Federal Claims No: 16-1592V.

106. Timothy Krusemark, Granger, Indiana, Court of Federal Claims No: 16-1593V.

[FR Doc. 2016-30783 Filed 12-21-16; 8:45 am]

BILLING CODE 4165-15-P